DEPARTMENT OF DEFENSE

Department of the Navy

Privacy Act of 1974; System of Records

AGENCY: Department of the Navy, DoD.

ACTION: Notice to Add and Delete a System of Records.

SUMMARY: The Department of the Navy proposes to add a system of records notice to its inventory of record systems subject to the Privacy Act of 1974 (5 U.S.C. 552a), as amended, and at the same time, delete one.

DATES: This action will be effective on May 24, 2002, unless comments are received that would result in a contrary determination.

ADDRESSES: Send comments to the Department of the Navy, PA/FOIA Policy Branch, Chief of Naval Operations (N09B10), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act, was submitted on April 11, 2002, to the House Committee on Government Reform, the Senate Committee on Governmental Affairs, and the Office of Management and Budget (OMB) pursuant to paragraph 4c of Appendix I to OMB Circular No. A-130, “Federal Agency Responsibilities for Maintaining Records About Individuals,” dated February 8, 1996, (61 FR 6427, February 20, 1996).

Dated: April 17, 2002.
Patricia L. Toppings,
Alternate OSD Federal Register Liaison Officer, Department of Defense.

Deletion

N05527-4

System name:

Naval Security Group Personnel Security/Access Files (February 22, 1993, 58 FR 10767).

Reason:

The system of records is no longer needed. Files have been merged into N05520-5, Personnel Security Program Management Records.

Addition

N01560-1

System name:

Navy College Management Information System.

System location:

Naval Education and Training Professional Development and Technology Center, 6490 Saufley Field Road, Pensacola, FL 32509-5241.

Categories of individuals covered by the system:

Navy and Marine Corps military personnel and Coast Guard Civil Service members who receive tuition assistance (TA); dependents of Marine Corp service members OCONUS who receive tuition assistance (TA); Navy and Marine Corp service members who participate in the Navy College Program for Afloat College Education (NCPACE); and Navy, Marine Corps, Adult Family Members (AFM) of service members and Civil Service employees who participate in the Academic Skills Program.

Categories of records in the system:

Individual's application for tuition assistance; personnel data; counseling notes and education plans; degree, course completion and grade reports from academic institutions and contract training providers; authorization for disbursement; agency approval/disapproval.

Authority for the maintenance of the system:

5 U.S.C. 301, Departmental Regulations; DoD 1322.8, Voluntary Education Programs for Military Personnel; SECNAVINST 1560.4, Department of the Navy Voluntary Education Program; and OPNAVINST 1560.9A, Voluntary Education Programs for Navy Personnel; and E.O. 9397 (SSN).

Purpose(s):

To maintain information on participants in the tuition assistance program, Navy College Program for Afloat College Education (NCPACE) and Academic Skills programs.

To provide information to education counselors for the purpose of determining TA eligibility; education and degree plans; and course selection and eligibility.

To provide information to fiscal and accounting personnel for the purpose of financial management and funds disbursement.

To provide supervisory and management personnel access to the individual's degree and course completion records via the Electronic Training Jacket produced by the Navy Training Management and Planning System (NTMPS) for the purpose of personnel evaluation, determining special program eligibility, and duty assignments.

To provide degree and course completion information to NTMPS in the form of an electronic extract.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To United States Coast Guard Voluntary Education Program Office for the purpose of education counseling, financial management and funds disbursement.

The DoD “Blanket Routine Uses” set forth at the beginning of the Navy's compilation of systems of records notices also apply to this system.

Policies and practices for storing, retrieving, accessing, retaining, and disposing of records in the system:

Storage:

Paper and electronic media.

Retrievability:

By individual's name, Social Security Number and branch of service.

Safeguards:

Paper copies of tuition applications are maintained in file cabinets under the control of authorized personnel during working hours; the office space in which the file cabinets are located is locked outside official working hours. Automated records are password protected.

Retention and disposal:

Paper and/or electronic copies of the individual's signed Tuition Assistance applications are retained at the originating NCO for three years and then shredded or burned. Copies of tuition assistance authorizations for officers are maintained in their official personnel record for two years following the completion of courses paid by tuition assistance. All other records are maintained in electronic format within NCMIS indefinitely.

System manager(s) and address:

Commanding Officer, Naval Education and Training Professional Development and Technology Center, 6490 Saufley Field Road, Pensacola, FL 32509-5241.

Notification procedure:

Individuals seeking to determine whether information about them is contained in this system should address written inquiries to the Commanding Officer, Naval Education and Training Professional Development and Technology Center, 6490 Saufley Field Road, Pensacola, FL 32509-5241.

Individuals should provide their full name, Social Security Number, branch of service, and signature.

Record access procedures:

Individuals seeking access to information about them contained in this system should address written inquiries to the Commanding Officer, Naval Education and Training Professional Development and Technology Center, 6490 Saufley Field Road, Pensacola, FL 32509-5241.

Individuals should provide their full name, Social Security Number, branch of service, and signature.

Contesting record procedures:

The Navy's rules for accessing records, and for contesting contents and appealing initial agency determinations are published in Secretary of the Navy Instruction 5211.5; 32 CFR part 701; or may be obtained from the system manager.

Record source categories:

Subject individual; Standard Training Activity Support System; Navy Personnel Command; Application for Tuition Assistance Form (NAVMC 10883); education counselors; educational institutions; Tuition Assistance Authorization form (NAVEDTRA 1560/5); and Academic Skills contractor.

Exemptions claimed for the system:

None.

[FR Doc. 02-9961 Filed 4-23-02; 8:45 am]

BILLING CODE 5001-08-P